DEPARTMENT OF ENERGY

Federal Energy Regulatory Commission

[Project No. 14556-000]

Gridflex Energy, LLC; Notice of Preliminary Permit Application Accepted for Filing and Soliciting Comments, Motions To Intervene, and Competing Applications

On September 12, 2013, the Gridflex Energy, LLC, filed an application for a preliminary permit, pursuant to section 4(f) of the Federal Power Act (FPA), proposing to study the feasibility of the Rose Creek Pumped Storage Project (Rose Creek Project or project) to be located on the Rose Creek Reservoir, near the town of Hawthorne, Mineral County, Nevada. The sole purpose of a preliminary permit, if issued, is to grant the permit holder priority to file a license application during the permit term. A preliminary permit does not authorize the permit holder to perform any land-disturbing activities or otherwise enter upon lands or waters owned by others without the owners' express permission.

The proposed project would consist of an expansion of the existing Rose Creek Reservoir as upper reservoir and a new lower reservoir, joined by approximately 12,300 feet of conduit. The project would also consist of the following: (1) A 100-foot-high by 1,720-foot-wide roller-compacted concrete or concrete-face rock-fill expansion of the existing Rose Creek Dam; (2) a 40-foot-high by 4,100-foot-wide concrete-face rock-fill or earthen lower reservoir ring embankment; (3) an expanded upper reservoir with a surface area of 35 acres and a total/usable storage capacity of 2,112 acre-feet at normal maximum operation elevation of 6,390 feet msl; (4) a lower reservoir with a surface area of 21 acres and a total/usable storage capacity of 1,056 acre-feet at normal maximum operation elevation of 4,075 feet msl; (5) a 2,200-foot-long, 9.6-foot-diameter concrete-lined low pressure headrace; (6) a 9,600-foot-long, 9.6-foot-diameter concrete and steel-lined high pressure headrace; (7) a 700-foot-long, 11.6-foot-diameter concrete-lined tailrace; (8) a 200-foot-long by 60-foot-wide by 120-foot-high powerhouse located at an elevation of approximately 3,930-foot-high and at a depth of 150 feet below ground level; (9) a new, 20-mile-long, 230-kilovolt (kV) transmission line connected to the 230-kV Dixie Valley Oxbow transmission line or a new, 15-mile-long, 230-kV transmission line connected to Sierra Pacific Power's Thorne substation; and (10) appurtenant facilities. The estimated annual generation of the Rose Creek Project would be 547.5 gigawatt-hours.

Applicant Contact: Matthew Shapiro, CEO, Gridflex Energy, LLC, 1210 W. Franklin St., Ste. 2, Boise, ID 83702; phone: (208) 246-9925.

FERC Contact: Tim Welch; phone: (202) 502-8760.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14556-000.

More information about this project, including a copy of the application, can be viewed or printed on the “eLibrary” link of Commission's Web site at http://www.ferc.gov/docs-filing/elibrary.asp. Enter the docket number (P-14556) in the docket number field to access the document. For assistance, contact FERC Online Support.

Dated: January 30, 2014.
Kimberly D. Bose,
Secretary.

[FR Doc. 2014-02484 Filed 2-5-14; 8:45 am]

BILLING CODE 6717-01-P